DEPARTMENT OF COMMERCE

International Trade Administration

[A-580-839]

Polyester Staple Fiber From the Republic of Korea; Rescission of Antidumping Duty Administrative Review; 2019-2020

AGENCY: Enforcement and Compliance, International Trade Administration, Department of Commerce.

SUMMARY: The Department of Commerce (Commerce) is rescinding the administrative review of the antidumping duty (AD) order on polyester staple fiber from the Republic of Korea (Korea) for the period of review (POR) May 1, 2019, through April 30, 2020, based on the timely withdrawal of the requests for review.

DATES: Applicable May 1, 2020.

FOR FURTHER INFORMATION CONTACT: Jason Willoughby, AD/CVD Operations, Office I, Enforcement and Compliance, International Trade Administration, U.S. Department of Commerce, 1401 Constitution Avenue NW, Washington, DC 20230; telephone: 202-482-5509.

SUPPLEMENTARY INFORMATION:

Background

On May 1, 2020, Commerce published a notice of opportunity to request an administrative review of the AD order on polyester staple fiber from Korea for the POR of May 1, 2019, through April 30, 2020.¹ On May 29, 2019, Commerce received timely-filed requests from DAK Americas LLC and Auriga Polymers, Inc. (the petitioners) ² for administrative reviews of Huvis Corporation (Huvis) and Toray Chemical Korea, Inc. (Toray) and from Huvis ³ for administrative review of itself, in accordance with section 751(a) of the Tariff Act of 1930, as amended (the Act), and 19 CFR 351.213(b). Commerce received no other requests for administrative review.

¹ See Antidumping or Countervailing Duty Order, Finding, or Suspended Investigation; Opportunity to Request Administrative Review, 85 FR 25394 (May 1, 2020).

² See Petitioners' Letter, “Polyester Staple Fiber—Review Request,” dated May 29, 2020.

³ See Huvis's Letter, “Certain Polyester Staple fiber from Korea; Request for Administrative Review for 2019-2020 Period,” dated June 1, 2020.

On July 10, 2020, pursuant to these requests, and in accordance with 19 CFR 351.221(c)(1)(i), Commerce initiated an administrative review of the AD order on polyester staple fiber from Korea.⁴ On July 20, 2020, the petitioners withdrew their request for an administrative review of Toray.⁵ On August 3, 2020, the petitioners withdrew their request for an administrative review of Huvis.⁶ On August 3, 2020, Huvis withdrew its request for an administrative review of itself.⁷

⁴ See Initiation of Antidumping and Countervailing Duty Administrative Reviews, 85 FR 41540 (July 10, 2020).

⁵ See Petitioners' Letter, “Polyester Staple Fiber from Korea—Withdrawal of Review Request for Toray Chemical Korea,” dated July 20, 2020.

⁶ See Petitioners' Letter, “Polyester Staple Fiber from Korea—Withdrawal of Review Request for Huvis Corporation,” dated August 3, 2020.

⁷ See Huvis's Letter, “Certain Polyester Staple Fiber from Korea; Withdrawal of Request for Administrative Review for 2019-2020 Period,” dated August 2, 2019.

Rescission of Review

Pursuant to 19 CFR 351.213(d)(1), Commerce will rescind an administrative review, in whole or in part, if a party that requested a review withdraws the request within 90 days of the publication date of the notice of initiation of the requested review. The petitioners and Huvis withdrew their requests within 90 days of the publication date of the notice of initiation. No other parties requested an administrative review of the order. Therefore, in accordance with 19 CFR 351.213(d)(1), we are rescinding the administrative review of the AD order on polyester staple fiber from Korea covering May 1, 2019, through April 30, 2020, in its entirety.

Assessment

Commerce intends to instruct U.S. Customs and Border Protection (CBP) to assess antidumping duties on all appropriate entries of polyester staple fiber from Korea during the POR at rates equal to the cash deposit of estimated antidumping duties required at the time of entry, or withdrawal from warehouse, for consumption in accordance with 19 CFR 351.212(c)(1)(i). Commerce intends to issue appropriate assessment instructions to CBP 15 days after the date of publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Orders

This notice also serves as a reminder to all parties subject to administrative protective order (APO) of their responsibility concerning the disposition of proprietary information disclosed under APO in accordance with 19 CFR 351.305, which continues to govern business proprietary information. Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: September 18, 2020.
James Maeder,
Deputy Assistant Secretary for Antidumping and Countervailing Duty Operations.

[FR Doc. 2020-21194 Filed 9-24-20; 8:45 am]

BILLING CODE 3510-DS-P